Title 3—

The President

Proclamation 9618 of May 31, 2017

African-American Music Appreciation Month, 2017

By the President of the United States of America

A Proclamation

During June, we pay tribute to the contributions African Americans have made and continue to make to American music. The indelible legacy of these musicians—who have witnessed our Nation's greatest achievements, as well as its greatest injustices—give all Americans a richer, deeper understanding of American culture. Their creativity has shaped every genre of music, including rock and roll, rhythm and blues, jazz, gospel, hip hop, and rap.

In March, rock and roll lost Chuck Berry, one of its founding fathers. Berry's signature style on the guitar, on display in classics like “Johnny B. Goode,” “Roll Over Beethoven,” “Maybellene,” and “Carol,” came to define the explosive new sound of rock and roll. As Keith Richards, guitarist for the Rolling Stones said while introducing Berry into the Rock and Roll Hall of Fame: “This is the gentleman who started it all.”

We also take time this month to recognize the musical influence of two of the greatest jazz musicians of all time, Dizzy Gillespie and Ella Fitzgerald, as this year marks their centennial birthdays. Gillespie, through his legendary trumpet sound and Fitzgerald, through her pure, energetic voice, treated people around the world to spirited and soulful jazz music. Their work has influenced countless musicians, and continues to inspire listeners young and old.

The contributions of Berry, Gillespie, Fitzgerald, and other African-American musicians shine as examples of how music can bring us together. These musicians also remind us of our humanity and of our power to overcome. They expressed the soul of blues, gospel, and rock and roll, which has so often captured the hardships of racism and injustices suffered by African Americans, as well as daily joys and celebrations. Their work highlights the power music has to channel the human experience, and they remain a testament to the resilience of all freedom-loving people. We are grateful for their contribution to the cannon of great American art.

NOW, THEREFORE, I, DONALD J. TRUMP, President of the United States of America, by virtue of the authority vested in me by the Constitution and the laws of the United States, do hereby proclaim June 2017 as African-American Music Appreciation Month. I call upon public officials, educators, and all the people of the United States to observe this month with appropriate activities and programs that raise awareness and appreciation of African-American Music.

IN WITNESS WHEREOF, I have hereunto set my hand this thirty-first day of May, in the year of our Lord two thousand seventeen, and of the Independence of the United States of America the two hundred and forty-first.

[FR Doc. 2017-11773

Filed 6-2-17; 11:15 am]

Billing code 3295-F7-P